DEPARTMENT OF ENERGY

Federal Energy Regulatory Commission

Combined Notice of Filings

Take notice that the Commission has received the following Natural Gas Pipeline Rate and Refund Report filings:

Filings Instituting Proceedings

Docket Numbers: RP12-1036-000.

Applicants: Petal Gas Storage, L.L.C.

Description: 2013 Operational Purchases and Sales Report.

Filed Date: 5/1/14.

Accession Number: 20140501-5125.

Comments Due: 5 p.m. ET 5/13/14.

Docket Numbers: RP12-609-000.

Applicants: Texas Gas Transmission, LLC.

Description: 2013 Operational Purchases and Sales Report.

Filed Date: 5/1/14.

Accession Number: 20140501-5126.

Comments Due: 5 p.m. ET 5/13/14.

Docket Numbers: RP13-212-000.

Applicants: Boardwalk Storage Company, LLC.

Description: Operational Purchases and Sales Report for 2013.

Filed Date: 5/1/14.

Accession Number: 20140501-5122.

Comments Due: 5 p.m. ET 5/13/14.

Docket Numbers: RP14-822-000.

Applicants: Gulf South Pipeline Company, LP.

Description: New Services & Tariff Changes Associated w/Merger of Petal into Gulf South to be effective 1/1/2015.

Filed Date: 5/1/14.

Accession Number: 20140501-5111.

Comments Due: 5 p.m. ET 5/13/14.

Docket Numbers: RP14-823-000.

Applicants: Gulf South Pipeline Company, LP.

Description: Non-Conf Agmts Filing in compliance with Gulf South/Petal Merger Application to be effective 1/1/2015.

Filed Date: 5/1/14.

Accession Number: 20140501-5116.

Comments Due: 5 p.m. ET 5/13/14.

Docket Numbers: RP14-824-000.

Applicants: Gulfstream Natural Gas System, L.L.C.

Description: 2014 GNGS TUP/SBA Filing to be effective 6/1/2014.

Filed Date: 5/1/14.

Accession Number: 20140501-5118.

Comments Due: 5 p.m. ET 5/13/14.

Docket Numbers: RP14-825-000.

Applicants: Southeast Supply Header, LLC.

Description: 2014 TUP/SBA Annual Filing to be effective 6/1/2014.

Filed Date: 5/1/14.

Accession Number: 20140501-5127.

Comments Due: 5 p.m. ET 5/13/14.

Docket Numbers: RP14-826-000.

Applicants: Wyoming Interstate Company, L.L.C.

Description: Quarterly Recomputation of FL&U Percentages and Index Price Development Update to be effective 6/1/2014.

Filed Date: 5/1/14.

Accession Number: 20140501-5197.

Comments Due: 5 p.m. ET 5/13/14.

Docket Numbers: RP14-827-000.

Applicants: East Tennessee Natural Gas, LLC.

Description: Wacker Recourse Rates—CP12-484-000 Compliance Filing to be effective 6/1/2014.

Filed Date: 5/1/14.

Accession Number: 20140501-5221.

Comments Due: 5 p.m. ET 5/13/14.

Docket Numbers: RP14-828-000.

Applicants: El Paso Natural Gas Company, L.L.C.

Description: Non-Conforming Agreements Update (UNS_APS) to be effective 6/1/2014.

Filed Date: 5/1/14.

Accession Number: 20140501-5246.

Comments Due: 5 p.m. ET 5/13/14.

Docket Numbers: RP14-829-000.

Applicants: Tennessee Gas Pipeline Company, L.L.C.

Description: Station 87—Zone 1 Supply Area Pooling Area to be effective 6/1/2014.

Filed Date: 5/1/14.

Accession Number: 20140501-5247.

Comments Due: 5 p.m. ET 5/13/14.

Docket Numbers: RP14-830-000.

Applicants: ANR Pipeline Company.

Description: ANR Pipeline Company Operational Purchases and Sales of Gas Report.

Filed Date: 5/1/14.

Accession Number: 20140501-5262.

Comments Due: 5 p.m. ET 5/13/14.

Docket Numbers: RP14-831-000.

Applicants: Blue Lake Gas Storage Company.

Description: Blue Lake Gas Storage Company Operational Purchases and Sales of Gas Report.

Filed Date: 5/1/14.

Accession Number: 20140501-5266.

Comments Due: 5 p.m. ET 5/13/14.

Docket Numbers: RP14-832-000.

Applicants: East Cheyenne Gas Storage, LLC.

Description: ECGS Operational Purchases and Sales Report 2014 Filing.

Filed Date: 5/1/14.

Accession Number: 20140501-5268.

Comments Due: 5 p.m. ET 5/13/14.

Docket Numbers: RP14-833-000.

Applicants: Transcontinental Gas Pipe Line Company.

Description: Rate Adjustment for Eminence Insurance Proceeds to be effective 6/1/2014.

Filed Date: 5/1/14.

Accession Number: 20140501-5271.

Comments Due: 5 p.m. ET 5/13/14.

Docket Numbers: RP14-834-000.

Applicants: Enable Gas Transmission, LLC.

Description: Negotiated Rate Filing—May 2014 to be effective 5/1/2014.

Filed Date: 5/1/14.

Accession Number: 20140501-5355.

Comments Due: 5 p.m. ET 5/13/14.

Docket Numbers: RP14-835-000.

Applicants: Tennessee Gas Pipeline Company, L.L.C.

Description: Clean-Up Filing—2014 to be effective 6/1/2014.

Filed Date: 5/1/14.

Accession Number: 20140501-5365.

Comments Due: 5 p.m. ET 5/13/14.

Docket Numbers: RP14-836-000.

Applicants: Enable Mississippi River Transmission, L.

Description: Negotiate Rate Filing to Add CES #5677 & LER #5680 Effective 5-1-14 to be effective 5/1/2014.

Filed Date: 5/1/14.

Accession Number: 20140501-5373.

Comments Due: 5 p.m. ET 5/13/14.

Docket Numbers: RP14-837-000.

Applicants: TC Offshore LLC.

Description: TC Offshore LLC Operational Purchases and Sales of Gas Report.

Filed Date: 5/1/14.

Accession Number: 20140501-5427.

Comments Due: 5 p.m. ET 5/13/14.

Docket Numbers: RP14-838-000.

Applicants: ANR Storage Company.

Description: ANR Storage Company Operational Purchases and Sales Report.

Filed Date: 5/1/14.

Accession Number: 20140501-5428.

Comments Due: 5 p.m. ET 5/13/14.

Docket Numbers: RP14-839-000.

Applicants: El Paso Natural Gas Company, L.L.C.

Description: Errata to System Map Update to be effective 5/31/2014.

Filed Date: 5/2/14.

Accession Number: 20140502-5193.

Comments Due: 5 p.m. ET 5/14/14.

Docket Numbers: RP14-840-000.

Applicants: Young Gas Storage Company, Ltd.

Description: Young System Map Update to be effective 6/2/2014.

Filed Date: 5/2/14.

Accession Number: 20140502-5209.

Comments Due: 5 p.m. ET 5/14/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-584-002.

Applicants: Columbia Gas Transmission, LLC.

Description: Revenue Sharing Report 2014.

Filed Date: 5/1/14.

Accession Number: 20140501-5085.

Comments Due: 5 p.m. ET 5/13/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2014.
Kimberly D. Bose,
Secretary.

[FR Doc. 2014-10705 Filed 5-8-14; 8:45 am]

BILLING CODE 6717-01-P